DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Nurse Anesthetist Traineeship (NAT) Program Application

OMB No. 0915-xxxx—NEW.

Abstract: The Health Resources and Services Administration (HRSA) provides advanced education nursing training grants to educational institutions to increase the numbers of Nurse Anesthetists through the NAT Program. The NAT Program is governed by Title VIII, Section 811(a)(2) of the Public Health Service Act, (42 U.S.C. 296j(a)(2)), as amended by Section 5308 of the Patient Protection and Affordable Care Act, Public Law 111-148. The NAT application will use the SF-424 R &R Short Form which includes the Project Abstract, Program Narrative, NAT Attachments, and the NAT Tables. The application and proposed NAT Tables will request information on program participants such as the number of enrollees, number of enrollees/trainees supported, number of graduates, number of graduates supported, projected data on enrollees/trainees and graduates for the previous fiscal year, the types of programs they are enrolling into and/or from which enrollees/trainees are graduating, and the distribution of Nurse Anesthetists to practice in underserved, rural, or public health practice settings.

Need and Proposed Use of the Information: Funds appropriated for the NAT Program are distributed among eligible institutions based on a formula. NAT award amounts are based on enrollment and graduate data and two funding factors (Statutory Funding Preference and Special Consideration) reported on the NAT Tables. HRSA will use the data from the application, specifically the NAT Tables, to determine the award, ensure programmatic compliance, and provide information to the public and Congress.

Likely Respondents: Eligible applicants are collegiate schools of nursing, nursing centers, academic health centers, state or local governments, and other public or private nonprofit entities determined appropriate by the Secretary that submit an application and are accredited for the provision of nurse anesthesia educational program by designated accrediting organizations. Eligible applicants must be accredited by the Council on Accreditation (COA) of Nurse Anesthesia Educational Programs of the American Association of Nurse Anesthetists. The school must be located in the 50 states, the District of Columbia, the Commonwealth of Puerto Rico, the Northern Mariana Islands, American Samoa, Guam, the U.S. Virgin Islands, the Federated States of Micronesia, the Republic of the Marshall Islands, or the Republic of Palau.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Type of respondent | Form name | Number of respondents | Number of responses per respondent | Average burden per response (in hours) | Total burden hours
Grantee | NAT Application including attachments | 100 | 1 | 4.02 | 402
Grantee | Table 1—NAT: Enrollment, Traineeship Support, Graduate, Graduates Supported, and Projected Data | 100 | 1 | 3.40 | 340
Grantee | Table 2A—NAT: Graduate Data—Rural, Underserved, or Public Health (7/01/XX-6/30/XX) | 100 | 1 | 2.78 | 278
Grantee | Table 2B—NAT: Graduates Supported by Traineeship Data—Rural, Underserved, or Public Health (7/01/XX-6/30/XX) | 100 | 1 | 1.84 | 184
Total |  | 100 |  |  | 1204

Dated: September 26, 2013.
Bahar Niakan,
Director, Division of Policy and Information Coordination.

[FR Doc. 2013-24269 Filed 10-2-13; 8:45 am]

BILLING CODE 4165-15-P